DEPARTMENT OF HEALTH AND HUMAN SERVICES

Health Resources and Services Administration

Availability of Funds HRSA Competitive Grants Notice: Cancellation for the Public Health Training Centers Grant Program

AGENCY: Health Resources and Services Administration (HRSA), HHS.

ACTION: Cancellation of notice of availability of funds.

SUMMARY: This notice rescinds the Notice of Availability of Funds for the Public Health Training Centers Grant Program (93.249) published on Tuesday, January 29, 2002 (67 FR 4263). That notice announced the availability of funds for fiscal year (FY) 2002 competitive grant programs that were not included in the HRSA Preview. Based on FY 2002 funding, there are insufficient funds available for new public health training centers projects.

FOR FURTHER INFORMATION CONTACT: Mark Wheeler, Grants Management, Bureau of Health Professions, Parklawn Building, Room 8c-26, 5600 Fishers Lane, Rockville, Maryland 20857 (301) 443-6880 (mwheeler@hrsa.gov).

Dated: February 20, 2002.
Elizabeth M. Duke,
Acting Administrator.

[FR Doc. 02-4597 Filed 2-26-02; 8:45 am]

BILLING CODE 4165-15-P